NATIONAL CREDIT UNION ADMINISTRATION

Sunshine Act: Notice Of Agency Meeting

TIME AND DATE: 2:30 p.m., Wednesday, April 29, 2015

PLACE: Board Room, 7th Floor, Room 7047, 1775 Duke Street, Alexandria, VA 22314-3428.

STATUS: Closed.

MATTERS TO BE CONSIDERED: 1. Administrative Action under NCUA's Rules and Regulations. Closed pursuant to Exemptions (8), (9)(i)(B), (9)(ii).

2. Consideration of Supervisory Action under NCUA's Rules and Regulations. Closed pursuant to Exemptions (8), (9)(i)(B), (9)(ii).

3. Creditor Claim Appeal. Closed pursuant to Exemption (6).

FOR FURTHER INFORMATION CONTACT: Gerard Poliquin, Secretary of the Board, Telephone: 703-518-6304.

Gerard Poliquin,
Secretary of the Board.

[FR Doc. 2015-09726 Filed 4-22-15; 4:15 pm]

BILLING CODE 7535-01-P